ENVIRONMENTAL PROTECTION AGENCY

40 CFR Part 52

[EPA-R07-OAR-2006-0122; FRL-8050-3]

Approval and Promulgation of Implementation Plans; Iowa; Prevention of Significant Deterioration (PSD)

AGENCY: Environmental Protection Agency (EPA).

ACTION: Proposed rule.

SUMMARY: EPA proposes to approve a revision to the Code of Federal Regulations (CFR) for the purpose of giving the Iowa Department of Natural Resources (IDNR) full regulatory responsibility for EPA-issued Prevention of Significant Deterioration (PSD) permits. IDNR demonstrated state legislative authority to take responsibility for the permits, and demonstrated that resources are available to accomplish full regulatory responsibility.

DATES: Comments on this proposed action must be received in writing by May 1, 2006.

ADDRESSES: Submit your comments, identified by Docket ID No. EPA-R07-OAR-2006-0122 by one of the following methods:

1. http://www.regulations.gov: Follow the on-line instructions for submitting comments.

2. E-mail: Hamilton.heather@epa.gov.

3. Mail: Heather Hamilton, Environmental Protection Agency, Air Planning and Development Branch, 901 North 5th Street, Kansas City, Kansas 66101.

4. Hand Delivery or Courier: Deliver your comments to: Heather Hamilton, Environmental Protection Agency, Air Planning and Development Branch, 901 North 5th Street, Kansas City, Kansas 66101. Such deliveries are only accepted during the Regional Office's normal hours of operation. The Regional Office's official hours of business are Monday through Friday, 8 a.m. to 4:30 p.m., excluding legal holidays.

Please see the direct final rule which is located in the Rules section of this Federal Register for detailed instructions on how to submit comments.

FOR FURTHER INFORMATION CONTACT: Heather Hamilton at (913) 551-7039, or by e-mail at Hamilton.heather@epa.gov.

SUPPLEMENTARY INFORMATION: In the final rules section of the Federal Register, EPA is approving the state's submittal as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: March 13, 2006.
James B. Gulliford,
Regional Administrator, Region 7.

[FR Doc. 06-3035 Filed 3-29-06; 8:45 am]

BILLING CODE 6560-50-P